FEDERAL RETIREMENT THRIFT INVESTMENT BOARD

Sunshine Act Meeting

TIME AND DATE: 9:30 a.m. (CDT), October 20, 2003.

PLACE: National Finance Center, Building 350, Conference Room 6, 13800 Old Gentilly Road, New Orleans, Louisiana.

STATUS: Parts will be open to the public and parts closed to the public.

MATTERS TO BE CONSIDERED:

Parts Open to the Public

9:30 a.m. (CDT) Convene meeting

1. Approval of minutes of the September 15, 2003, Board meeting.

2. Thrift Savings Plan report by the Executive Director.

Parts Closed to the Public

3. Discussion of draft selection criteria for call center services.

FOR FURTHER INFORMATION CONTACT: Thomas J. Trabucco, Director, Office of External Affairs, (202) 942-1640.

Dated: October 6, 2003.
Elizabeth S. Woodruff,
Secretary to the Board, Federal Retirement Thrift Investment Board.

[FR Doc. 03-25684 Filed 10-6-03; 4:46 pm]

BILLING CODE 6760-01-M